DEPARTMENT OF TRANSPORTATION

Coast Guard

33 CFR Part 165

[CGD09-00-013]

Safety Zone: Navy Pier, Lake Michigan, Chicago Harbor, IL

AGENCY: Coast Guard, DOT.

ACTION: Temporary final rule; request for comments.

SUMMARY: The Coast Guard is establishing a temporary safety zone. The safety zone encompasses a portion of the Chicago Harbor. The safety zone is needed to protect vessels and spectators during fireworks shows scheduled for various dates during the summer of the year 2000.

DATES: This temporary final rule is effective at 9:15 p.m., May 28, 2000 until 10:30 p.m., August 23, 2000.

ADDRESSES: You may direct comments to the Captain of the Port, Chicago Illinois, CGD09-00-013, 215 W. 83rd Street, Chicago, Illinois 60521 or deliver them to the Coast Guard Marine Safety Office, 215 W. 83rd Street, Suite D, Burr Ridge, Illinois. The telephone number is (630) 986-2155. The Marine Safety Office, Chicago, Illinois maintains the public docket. Comments and documents as indicated in this preamble will be available for inspection or copying between 9:30 a.m. and 2 p.m. Monday through Friday, except Federal Holidays.

FOR FURTHER INFORMATION CONTACT: Lieutenant Diane J. Hauser, U.S. Coast Guard Marine Safety Office, 215 W. 83rd Street, Burr Ridge, Illinois 60521. The telephone number is (630) 986-2155.

SUPPLEMENTARY INFORMATION: In accordance with 5 U.S.C. 553, a notice of proposed rulemaking was not published for this regulation and good cause exists for making it effective less than 30 days after publication in the Federal Register. Publication of a notice of proposed rulemaking and delay of effective date would be contrary to the public interest because immediate action is necessary to prevent possible loss of life, injury, or damage to property or the environment.

Although this rule is being published as a temporary final rule without prior notice, an opportunity for public comment is nevertheless desirable to ensure the rule is both reasonable and workable. Accordingly, persons wishing to comment may do so by submitting comments to the office listed in ADDRESSES in the preamble. Persons submitting comments should include their names and addresses, identify this rulemaking (CGD09-00-013), the specific sections of this document to which each comment applies, and give the reason for each comment. The Coast Guard will consider all comments received.

Background and Purpose

A temporary safety zone is required to ensure safety of vessels and spectators from hazards associated with fireworks. Entry into, transit through or anchoring within this safety zone is prohibited unless authorized by the Captain of the Port, Chicago or the designated Patrol Commander. The designated Patrol Commander on scene may be contacted on VHF Channel 16.

Regulatory Evaluation

This temporary rule is not a significant regulatory action under section 3(f) of Executive Order 12866 and does not require an assessment of potential costs and benefits under section 6(a)(3) of that order. It has not been reviewed by the Office of Management and Budget under that order. It is not significant under the regulatory policies and procedures of the Department of Transportation (DOT) (44 FR 11040, February 26, 1979). The Coast Guard expects the economic impact of this proposal to be so minimal that a full Regulatory Evaluation under paragraph 10e of the regulatory policies and procedures of DOT is unnecessary.

Small Entities

Under the Regulatory Flexibility Act (5 U.S.C. 601 et seq.) the Coast Guard considered whether this rule will have a significant impact on a substantial number of small businesses and not-for-profit organizations that are not dominant in their respective fields, and government jurisdictions with populations less than 50,000. For the same reasons set fourth in the above regulatory evaluations, the Coast Guard certifies under section 605 (b) of the Regulatory Flexibility Act (5 U.S.C.601 et seq.) that this temporary final rule will not have a significant economic impact on a substantial number of small entities.

Assistance for Small Entities

In accordance with section 213(a) of the Small Business Regulatory Enforcement Fairness Act of 1996 (Pub.L. 104-121), the Coast Guard wants to assist small entities in understanding this rule so that they can better evaluate its effectiveness and participate in the rulemaking process. If your small business or organization is affected by this rule, and you have questions concerning its provisions or options for compliance, please contact the office listed in ADDRESSES in this preamble.

Collection of Information

This rule contains no information collection requirements under the Paperwork Reduction Act (44 U.S.C. 3501 et seq.).

Federalism

The Coast Guard has analyzed this rule under the principles and criteria contained in Executive Order 13132 and has determined that this rule does not have federalism implications under that order.

Environment

The Coast Guard considered the environmental impact of this regulation and concluded that, under figure 2-1, paragraph (34)(g) of Commandant Instruction M16475.1C, it is categorically excluded from further environmental documentation. A “Categorical Exclusion Determination” is available in the docket for inspection or copying where indicated under ADDRESSES.

List of Subjects in 33 CFR Part 165

Harbors, Marine safety, Navigation (water), Reporting and recordkeeping requirements, Security measures, Vessels, Waterways.

For the reasons set out in the preamble, the Coast Guard amends 33 CFR Part 165 as follows:

PART 165—[AMENDED]

1. The authority citation for Part 165 continues to read as follows:

Authority: 33 U.S.C. 1231; 50 U.S.C. 191; and 33 CFR 1.05-1(g), 6.04-1, 6.04-6, and 160.5; and 49 CFR 1.46. Section 165.100 is also issued under authority of Sec. 311, Pub. L. 105-383.

2. A new temporary § 165.T09-013 is added to read as follows:

§ 165.T09-013 Safety Zone: Chicago Harbor, Chicago, Illinois.

(a) Location. The following area is a temporary safety zone: The waters of Lake Michigan 700 feet in diameter from Longitude 41-53′18″ N and Latitude 087-36′08″ W. An alternate position that may be used is Longitude 41-53′24″ N and Latitude 087-35′44W. When alternate position is used the water within a 700 ft diameter is also affected. Position will be determined by the Patrol Commander.

(b) Applicable date. This temporary final rule is applicable from 9:15 p.m. to 9:45 p.m., on May 28, 2000 and on every Wednesday from 9:15 to 9:45 and every Saturday from 10:00 to 10:30 through August 23, 2000.

(c) Regulations. In accordance with the general regulations in 165.23 of this part, entry into this zone is prohibited unless authorized by the Coast Guard Captain of the Port, Chicago, or the designated Patrol Commander.

(d) Effective Date. This rule is effective from May 28, 2000 until August 23, 2000.

Dated: July 6, 2000.
A. M. Heggers,
Captain, U.S. Coast Guard, Captain of the Port Chicago.

[FR Doc. 00-18939 Filed 7-25-00; 8:45 am]

BILLING CODE 4910-15-P